DEPARTMENT OF THE INTERIOR

Office of Surface Mining Reclamation and Enforcement

Notice of Proposed Information Collection for 1029-0027 and 1029-0036

AGENCY: Office of Surface Mining Reclamation and Enforcement Interior.

ACTION: Notice and request for comments.

SUMMARY: In compliance with the Paperwork Reduction Act of 1995, the Office of Surface Mining Reclamation and Enforcement (OSM) is announcing its intention to request approval to continue the collections of information under 30 CFR part 740, Surface Coal Mining and Reclamation Operations on Federal Lands, and 30 CFR part 780, Surface Mining Permit Applications—Minimum Requirements for Reclamation and Operation Plans. These information collection activities were previously approved by the Office of Management and Budget (OMB), and assigned them clearance numbers 1029-0027 and -0036, respectively.

DATES: Comments on the proposed information collection must be received by July 1, 2002 to be assured of consideration.

ADDRESSES: Comments may be mailed to John A. Trelease, Office of Surface Mining Reclamation and Enforcement, 1951 Constitution Ave., NW., Room 210—SIB, Washington, DC 20240. Comments may also be submitted electronically to jtrelease@osmre.gov.

FOR FURTHER INFORMATION CONTACT: To request a copy of the information collection requests, explanatory information and related forms, contact John A. Trelease, at (202) 208-2783.

SUPPLEMENTARY INFORMATION: OMB regulations at 5 CFR part 1320, which implementing provisions of the Paperwork Reduction Act of 1995 (Pub. L. 104-13), require that interested members of the public and affected agencies have an opportunity to comment on information collection and recordkeeping activities [see 5 CFR 1320.8 (d)]. This notice identifies information collections that OSM will be submitting to OMB for approval. These collections are contained in (1) 30 CFR part 740, General requirements for surface coal mining and reclamation operations on Federal lands (1029-0027); and (2) 30 CFR part 780, State-Federal cooperative agreements (1029-0092). OSM will request a 3-year term of approval for each information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSM's submission of the information collection requests to OMB.

The following information is provided for the information collection: (1) Title of the information collection; (2) OMB control number; (3) summary of the information collection activity; and (4) frequency of collection, description of the respondents, estimated total annual responses, and the total annual reporting and recordkeeping burden for the collection of information.

Title: 30 CFR part 740—General requirements for surface coal mining and reclamation operations on Federal lands.

OMB Control Number: 1029-0027.

Summary: Section 523 of SMCRA requires that a Federal lands program be established to govern surface coal mining and reclamation operations on Federal lands. The information requested is needed to assist the regulatory authority determine the eligibility of an applicant to conduct surface coal mining operations on Federal lands.

Frequency of Collection: Once.

Description of Respondents: Applicants for surface coal mine permits on Federal lands.

Total Annual Responses: 36.

Total Annual Burden Hours: 2,433.

Title: 30 CFR part 780—Surface Mining Permit Applications— Minimum Requirements for Reclamation and Operation Plan.

OMB Control Number: 102-0036.

Summary: Sections 507(b), 508(a), 510(b), 515(b) and (d), and 522 of Public Law 95-87 require applicants to submit operations and reclamation plans for coal mining activities. Information collection is needed to determine whether the plans will achieve the reclamation and environmental protections pursuant to the Surface Mining Control and Reclamation Act. Without this information, Federal and State regulatory authorities cannot review and approve permit application requests.

Bureau Form Number: None.

Frequency of Collection: Once.

Description of Respondents: Applicants for surface coal mine permits.

Total Annual Responses: 325.

Total Annual Burden Hours: 186,556.

Dated: April 5, 2002.
Richard G. Bryson,
Chief, Division of Regulatory Support.

[FR Doc. 02-10643 Filed 4-30-02; 8:45 am]

BILLING CODE 4310-05-M